DEPARTMENT OF THE INTERIOR

Bureau of Land Management

[LLAZ910000.L14300000.ET0000.LXSIURAM0000 241A; AZA-35138]

Notice of Availability of the Northern Arizona Proposed Withdrawal Final Environmental Impact Statement

AGENCY: Bureau of Land Management, Interior.

ACTION: Notice of availability.

SUMMARY: In accordance with the National Environmental Policy Act (NEPA) of 1969, as amended, and the Federal Land Policy and Management Act (FLPMA), the Bureau of Land Management (BLM) has prepared a Final Environmental Impact Statement (EIS) for the Northern Arizona Proposed Withdrawal and by this notice is announcing its availability.

DATES: The Final EIS will be distributed and made available to the public for a minimum of 30 days following the publication of a Notice of Availability in the Federal Register by the Environmental Protection Agency (EPA). As the decision maker in this matter, the Secretary of the Interior will not issue a final decision on the proposal for a minimum of 30 days after the date that the EPA publishes this notice in the Federal Register.

ADDRESSES: Copies of the Northern Arizona Proposed Withdrawal Final EIS are available for public inspection at: Bureau of Land Management, Arizona Strip District Office, 345 East Riverside Drive, St. George, Utah 84790; Bureau of Land Management, Arizona State Office, One North Central Avenue, Suite 800, Phoenix, Arizona 85004-4427; and U.S. Forest Service, Kaibab National Forest, 800 South 6th Street, Williams, Arizona 86046. Interested persons may also review the Final EIS on the Internet at http://www.blm.gov/az/st/en/prog/mining/timeout.html.

FOR FURTHER INFORMATION CONTACT: Chris Horyza, Project Manager, Bureau of Land Management, Arizona State Office, One North Central Avenue, Suite 800, Phoenix, Arizona 85004-4427, (602) 417-9446, e-mail chris_horyza@blm.gov. Persons who use a telecommunications device for the deaf (TDD) may call the Federal Information Relay Service (FIRS) at (800) 877-8339 to contact the above individual during normal business hours. The service is available 24 hours a day, 7 days a week, to leave a message or question with the above individual. You will receive a reply during normal business hours.

SUPPLEMENTARY INFORMATION: On July 21, 2009, the U.S. Department of the Interior published notice of a proposal to withdraw (Proposed Withdrawal) approximately 1 million acres of Federal locatable minerals in northern Arizona from location and entry under the Mining Law of 1872, (30 U.S.C. 22-54) (Mining Law), subject to valid existing rights, by the Secretary of the Interior (Secretary).

Under Section 204 of FLPMA, publication of the Federal Register notice of the Proposed Withdrawal had the effect of segregating the lands involved for up to 2 years from the location and entry of new mining claims, subject to valid existing rights. For detailed information pertaining to the location of the Proposed Withdrawal, refer to the map dated August 11, 2011, posted on the Internet at: http://www.blm.gov/az/st/en/prog/mining/timeout.html. This map is also on file at the Arizona Strip District Office at the address above and can be viewed there upon request. Detailed legal descriptions of each withdrawal alternative are included as Appendix C in the Northern Arizona Proposed Withdrawal Final EIS. On June 27, 2011, the Secretary published a Public Land Order withdrawing, under the Secretary's emergency withdrawal authority in Section 204(e) of FLPMA, the same Federal lands from location and entry under the Mining Law, subject to valid existing rights. The emergency withdrawal was effective on July 21, 2011, and expires on January 20, 2012. The BLM has completed an Environmental Analysis of the Proposed Withdrawal in accordance with NEPA.

The Proposed Action analyzed in the Final EIS is the withdrawal of 1,006,545 acres of Federal lands near Grand Canyon National Park from location and entry under the Mining Law for a period of 20 years. This has also been selected as the Preferred Alternative. The purpose of the action is to protect the natural, cultural, and social resources in the Grand Canyon watershed from the possible adverse effects of the reasonably foreseeable locatable mineral exploration and mining that could occur in the area proposed for withdrawal.

The need for action is based on a history of hardrock mining activities in the Grand Canyon watershed dating back to the 1860s. In some cases, these mining activities have left lasting impacts within the watershed, primarily associated with older copper and uranium mines. These historical impacts and the recent increase in the number and extent of mining claims located in the area, particularly for uranium, have raised concerns that future hardrock mining activities in the Grand Canyon watershed could result in adverse effects to resources.

Public scoping for this project began on August 26, 2009 (74 FR 43152), with publication of a Notice of Intent in the Federal Register, and closed on October 30, 2009. During that time, 83,525 comment letters were received. Important issues identified during scoping include:

• Change in geologic conditions and availability of uranium resources;

• Dewatering of perched aquifers and changes in water availability in deep aquifers;

• Contamination of both ground and surface water;

• Effects to endangered, threatened, and special status plants and animal species;

• Visual intrusions to Grand Canyon National Park visitors;

• Noise disruptions to Grand Canyon National Park visitors;

• Effects to cultural resources and Traditional Cultural Properties;

• Potential public health effects due to exposure to uranium; and

• Effects to the local, regional, or national economy.

A Draft EIS was released for public review and comment on February 18, 2011. The Draft EIS considered these issues in its analysis of four alternatives. Alternative A was the No Action Alternative, under which no lands would be withdrawn and mineral exploration and mining would continue throughout the Proposed Withdrawal area in accordance with existing laws, regulations, and land use plans. Alternative B, which was the Proposed Action, was a withdrawal for 20 years, subject to valid existing rights, of approximately 1,010,776 acres in three parcels from location and entry under the 1872 Mining Law, but not the mineral leasing, geothermal leasing, mineral materials, or public land laws. Two of the three parcels are north of Grand Canyon National Park on BLM-managed Arizona Strip lands and the North Kaibab Ranger District of the Kaibab National Forest, and the remaining parcel is south of the Grand Canyon on the Tusayan Ranger District of the Kaibab National Forest. Alternative C was a withdrawal of approximately 652,986 acres from the 1872 Mining Law for 20 years, subject to valid existing rights. This alternative would withdraw the largest contiguous area identified on resource location maps with concentrations of cultural, hydrologic, recreational, visual, and biological resources which could be adversely affected by locatable mineral exploration and mining. As with the Proposed Action, Alternative C would not prevent any other development under the mineral leasing, geothermal leasing, mineral materials, or public land laws. Alternative D was a withdrawal of 300,681 acres from the 1872 Mining Law for 20 years, subject to valid existing rights. This alternative would withdraw the contiguous area identified on resource location maps where there is the highest concentration of overlapping cultural, hydrologic, recreational, visual, and biological resources, which could be adversely affected by locatable mineral exploration and mining. As with the Proposed Action, Alternative D would not prevent any other development under the mineral leasing, geothermal leasing, mineral materials, or public land laws.

The Draft EIS analyzed the potential effects of the alternatives on resources within, and in the vicinity of, the potential withdrawal areas as well as within, and in the vicinity of, the Grand Canyon National Park. Analysis was conducted for potential effects to air quality, geology and minerals, ground and surface water resources, soil resources, vegetation resources, fish and wildlife in general, special status plant and animal species, including those listed as threatened or endangered, visual resources, soundscapes, cultural resources, American Indian resources, wilderness, recreation, social, and economic conditions.

The public comment period was originally set for 45 days, and was subsequently extended for 30 days, resulting in a 75-day comment period concluding on May 4, 2011. During the public comment period, 296,339 comment submittals were received. From these comment letters, approximately 1,400 individual substantive comments were extracted.

In accordance with Council on Environmental Quality regulations (40 CFR 1503.4) and BLM procedures in Handbook H-1790-1, substantive public comments have been responded to in the Final EIS and appropriate revisions have been made. Chapter 5 of the Final EIS contains details of the public review and comment process and responses to substantive comments received during the public comment period.

Revisions to the EIS from Draft to Final were primarily editorial or to improve the document's clarity.

Changes to the EIS Include

• Identification of the Proposed Action as the Preferred Alternative;

• An adjustment to the boundary of the North Parcel to exclude the Kanab Creek Wilderness Area, which is already withdrawn by Congress. Acreage calculations were adjusted in each withdrawal alternative to account for the boundary change. In the Final EIS, the North Parcel has been adjusted to 549,995 acres that would be withdrawn in Alternative B, 351,965 acres that would be withdrawn in Alternative C, and 102,581 acres that would be withdrawn in Alternative D;

• An adjustment to the South Parcel Boundary excluding 40 acres within the Navajo Nation that was erroneously included. In addition, more current Federal mineral data may also cause adjusted acreage figures. Acreage calculations were adjusted for Alternative B in the Final EIS to 322,096 acres that would be withdrawn, 206,603 acres that would be withdrawn in Alternative C, and 133,273 acres that would be withdrawn in Alternative D;

• Due to the above boundary changes and acreage recalculations, the total acres of Federal minerals that would be withdrawn in each withdrawal alternative has changed. Alternative B would withdraw a total of 1,006,545, Alternative C would withdraw a total of 648,802, and Alternative D would withdraw a total of 292,086 acres;

• Detailed legal descriptions of the withdrawal alternatives by Parcel have been included in Appendix C;

• Numerous edits to improve the clarity of the analysis; and

• A further refined economic analysis.

Twelve agencies and two American Indian tribes have valid Cooperating Agency agreements with the BLM, including the U.S. Forest Service, Kaibab National Forest; National Park Service, Grand Canyon National Park; U.S. Fish and Wildlife Service; U.S. Geological Survey; Arizona Game and Fish Department; Arizona Geological Survey; Arizona State Lands Department; Hualapai Tribe; Kaibab Band of Paiute Indians; Coconino County, Arizona; Mohave County, Arizona; Kane County, Utah; San Juan County, Utah; and Washington County, Utah.

Comments on the Draft EIS received from the public and internal review were considered and incorporated as appropriate into the Final EIS. Public comments resulted in the addition of clarifying text and some refined analysis.

Authority: 40 CFR 1506.6, 40 CFR 1506.10, 43 CFR 2091.5.

Raymond Suazo,
Acting Arizona State Director.

[FR Doc. 2011-27752 Filed 10-26-11; 8:45 am]

BILLING CODE 4310-32-P